ELECTION ASSISTANCE COMMISSION

Sunshine Act Notice

AGENCY: U.S. Election Assistance Commission.

ACTION: Notice of public hearing agenda.

Date and Time: Tuesday, March 17, 2009, 1-3 p.m.

Place: U.S. Election Assistance Commission, 1225 New York Ave, NW., Suite 150, Washington, DC 20005 (Metro Stop: Metro Center).

Agenda: The Commission will receive presentations on the following topic: Voter Registration Databases: Initial Discussion on Reviewing HAVA Mandated Guidance.

This hearing will be open to the public.

Person to Contact for Information: Bryan Whitener. Telephone: (202) 566-3100.

Alice Miller,
Chief Operating Officer, U.S. Election Assistance Commission.

[FR Doc. E9-4760 Filed 3-3-09; 11:15 am]

BILLING CODE 6820-KF-P